DEPARTMENT OF THE INTERIOR

National Park Service

Notice of Inventory Completion: Pierce College District, Lakewood, WA; Correction

AGENCY: National Park Service, Interior.

ACTION: Notice; correction.

Notice is here given in accordance with the Native American Graves Protection and Repatriation Act (NAGPRA), 25 U.S.C. 3003 (5), of the completion of an inventory of human remains in the possession of the Pierce College District, Lakewood, WA. The human remains were removed from site 45-PI-07, also known as the Purdy 1 site, at Carr Inlet, Pierce County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

This notice corrects the number of tribes that were determined to be culturally affiliated in a Notice of Inventory Completion previously published in the Federal Register of November 22, 2006 (FR Doc E6-19790, pages 67634-67635) by adding the Nisqually Indian Tribe of the Nisqually Reservation, Washington.

After publication in the Federal Register of the Notice of Inventory Completion, Pierce College District determined that the Nisqually Indian Tribe of the Nisqually Reservation, Washington were also culturally affiliated with the Native American human remains from site 45-PI-07, also known as the Purdy 1 site, at Carr Inlet, Pierce County, WA.

In the Federal Register of November 22, 2006, on page 67634, paragraph number 5, is corrected by substituting the following:

Site 45-PI-07 is a shell mound measuring 5 feet high, 30 feet wide, and 120 feet long. Osteological and archeological analysis indicate that the human remains removed from site 45-PI-07 are of Native American ancestry, based on the presence of extreme degrees of dental wear, marked shoveling of the exposed permanent incisors, blunt nasal sills, rounded chins, squatting facets on the talus, and their flex-kneed burial position, and site context. Archeological materials recovered from the site indicate a wide range of use during the prehistoric and historic periods. Site 45-PI-07 is located within the area long occupied by the Shotlemamish, a Southern Lushootseed speaking group. Members of the Puyallup Tribe of the Puyallup Reservation, Washington speak the Southern Lushootseed language. Around 1870s, remaining Shotlemamish, in what is now the Purdy I area, moved to the Puyallup Reservation where there were already Shotlemamish living on the reservation. Officials of Pierce College have reasonably determined that there is also a shared group identity through marriage between the Burley Lagoon, Purdy Washington Shotlemamish and Nisqually Indian Tribe of the Nisqually Reservation, Washington. Descendants of the Shotlemamish are members of the Puyallup Tribe of the Puyallup Reservation, Washington.

Officials of the Pierce College District have determined that, pursuant to 25 U.S.C. 3001 (9-10), the human remains described above represent the physical remains of 29 individuals of Native American ancestry. Officials of the Pierce College District also have determined that, pursuant to 25 U.S.C. 3001 (2), there is a relationship of shared group identity that can be reasonably traced between the Native American human remains and the Nisqually Indian Tribe of the Nisqually Reservation, Washington and Puyallup Tribe of the Puyallup Reservation, Washington. Lastly, officials of the Pierce College District have determined that there is a preponderance of the evidence in favor of the Puyallup Tribe of the Puyallup Reservation, Washington's claim.

Representatives of any other Indian tribe that believes itself to be culturally affiliated with the human remains should contact Chris MacKersie, District Director of Safety & Security and Assistant Director of Facilities, Pierce College District, 9401 Farwest Drive SW, Lakewood, WA 98498, telephone (253) 912-3655, before August 1, 2007. Repatriation of the human remains to the Puyallup Tribe of the Puyallup Reservation, Washington may proceed after that date if no additional claimants come forward.

Pierce College District is responsible for notifying the Nisqually Indian Tribe of the Nisqually Reservation, Washington and Puyallup Tribe of the Puyallup Reservation, Washington that this notice has been published.

Dated: June 13, 2007
Sherry Hutt,
Manager, National NAGPRA Program.

[FR Doc. E7-12712 Filed 6-29-07; 8:45 am]

BILLING CODE 4312-50-S